DEPARTMENT OF STATE

[Public Notice: 12097]

Notice of Public Meeting

The Department of State will conduct a public meeting at 11:00 a.m. on Thursday, July 20, 2023, by way of teleconference. The primary purpose of the meeting is to prepare for the ninth session of the International Maritime Organization's (IMO) Sub-Committee on Implementation of IMO Instruments (III 9) to be held at the IMO Headquarters, London, United Kingdom, from Monday, July 31, 2023, to Friday, August 4, 2023.

Members of the public may participate up to the capacity of the teleconference phone line, which can handle 500 participants. To RSVP, participants should contact the meeting coordinator, Mr. Christopher Gagnon, by email at christopher.j.gagnon@uscg.mil. Mr. Gagnon will provide access information for the teleconference line.

The agenda items to be considered at the public meeting mirror those to be considered at III 9, and include:

—Decisions of other IMO bodies;

—Consideration and analysis of reports on alleged inadequacy of port reception facilities;

—Lessons learned and safety issues identified from the analysis of marine safety investigation reports;

—Measures to harmonize port state control (PSC) activities and procedures worldwide;

—Validate model training courses;

—Identified issues relating to the implementation of IMO instruments from the analysis of data;

—Analysis of consolidated audit summary reports;

—Development of guidance in relation to IMSAS to assist in the implementation of the III Code by Member States;

—Updated survey guidelines under the Harmonized System of Survey and Certification (HSSC);

—Non-exhaustive list of obligations under the instruments relevant to the IMO Instruments Implementation Code (III Code);

—Development of guidance on assessments and applications of remote surveys, ISM Code audits and ISPS Code verifications;

—Unified interpretation of provisions of IMO safety, security, and environment related conventions;

—Follow-up work emanating from the Action Plan to address plastic litter from ships; and

—Development of guidance to assist competent authorities in the implementation of the Cape Town Agreement of 2012.

Please note: the IMO may, on short notice, adjust the III 9 agenda to accommodate the constraints associated with the meeting format. Any changes to the agenda will be reported to those who RSVP and those in attendance at the meeting.

Those who plan to participate may contact the meeting coordinator, Mr. Christopher Gagnon, by email at christopher.j.gagnon@uscg.mil, by phone at (202) 372-1231, or in writing at 2703 Martin Luther King Jr. Ave. SE, Stop 7501, Washington, DC 20593-7509. Members of the public needing reasonable accommodation should advise Mr. Gagnon not later than July 14, 2023. Requests made after that date will be considered but might not be possible to fulfill.

Additional information regarding this and other IMO public meetings may be found at: https://www.dco.uscg.mil/IMO.

(Authority: 22 U.S.C. 2656 and 5 U.S.C. 552.)

Emily A. Rose,
Coast Guard Liaison Officer, Office of Ocean and Polar Affairs, Department of State.

[FR Doc. 2023-12353 Filed 6-8-23; 8:45 am]

BILLING CODE 4710-09-P